DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: License Exception TMP: Special Requirements.

Agency Form Number: None.

OMB Approval Number: 0694-0029.

Type of Request: Submission for OMB review; comment request.

Burden: 1 hour.

Average Time Per Response: 20 minutes per response.

Number of Respondents: 3 respondents.

Needs and Uses: If commodities shipped under License Exception TMP are for news-gathering purposes, the exporter must send BIS a copy of the notification. Also, a TMP exporter must send BIS an explanatory letter if commodities shipped must be detained abroad beyond the 12 month limit. The information is used to determine whether or not an extension should be granted. This collection of information is necessary to identify original export licenses of respondents who request duplicate export licenses for lost or destroyed licenses.

Respondent's Obligation: Required to obtain or retain a benefit.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, Room 10202, New Executive Office Building, Washington, DC 20230.

Dated: December 2, 2003.
Madeleine Clayton,
Management Analyst, Office of the Chief Information Officer.

[FR Doc. 03-30321 Filed 12-5-03; 8:45 am]

BILLING CODE 3510-DT-P